FEDERAL MINE SAFETY AND HEALTH REVIEW COMMISSION

Sunshine Act Meeting

February 3, 2011.

TIME AND DATE: 10 a.m., Thursday, February 17, 2011.

PLACE: The Richard V. Backley Hearing Room, 9th Floor, 601 New Jersey Avenue, NW., Washington, DC.

STATUS: Open.

MATTERS TO BE CONSIDERED: The Commission will hear oral argument in the matter Secretary of Labor v. North American Drillers, Inc., Docket Nos. LAKE 2008-2-R et al. (Issues include whether the judge erred in failing to grant the operator's request for declaratory relief in a case where the Secretary had vacated the citation in question.)

Any person attending this oral argument who requires special accessibility features and/or auxiliary aids, such as sign language interpreters, must inform the Commission in advance of those needs. Subject to 29 CFR 2706.150(a)(3) and 2706.160(d).

CONTACT PERSON FOR MORE INFO: Jean Ellen (202) 434-9950/(202) 708-9300 for TDD Relay/1-800-877-8339 for toll free.

Emogene Johnson,
Administrative Assistant.

[FR Doc. 2011-3087 Filed 2-8-11; 4:15 pm]

BILLING CODE 6735-01-P